DEPARTMENT OF HEALTH AND HUMAN SERVICES

Centers for Disease Control and Prevention

National Institute for Occupational Safety and Health (NIOSH), Safety and Occupational Health Study Section (SOHSS); Notice of Meeting

In accordance with section 10(a)(2) of the Federal Advisory Committee Act (Pub. L. 92-463), the Centers for Disease Control and Prevention (CDC) announces the aforementioned committee meeting.

Times and Dates: 8 a.m.-5 p.m., February 20, 2007. 8 a.m.-5 p.m., February 21, 2007.

Place: Embassy Suites Hotel, 1900 Diagonal Road, Alexandria, Virginia, 22314, telephone 703.684.5900, fax 703.684.1403.

Status: Open 8 a.m.-8:30 a.m., February 20, 2007. Closed 8:30 a.m.-5 p.m., February 20, 2007. Closed 8 a.m.-5 p.m., February 21, 2007.

Purpose: The Safety and Occupational Health Study Section will review, discuss, and evaluate grant applications received in response to the Institute's standard grants review and funding cycles pertaining to research issues in occupational safety and health and allied areas.

It is the intent of NIOSH to support broad-based research endeavors in keeping with the Institute's program goals. This will lead to improved understanding and appreciation for the magnitude of the aggregate health burden associated with occupational injuries and illnesses, as well as to support more focused research projects, which will lead to improvements in the delivery of occupational safety and health services and the prevention of work-related injury and illness. It is anticipated that the research funded will promote these program goals.

Matters to be Discussed: The meeting will convene an open session from 8-8:30 a.m. on February 20, 2007, to address matters related to the conduct of SOHSS business. The remainder of the meeting will proceed in closed session. The purpose of the closed session is for the study section to consider safety and occupational health-related grant applications. These portions of the meeting will be closed to the public in accordance with provisions set forth in Section 552b(c)(4) and (6), Title 5 U.S.C., and the Determination of the Director, Management Analysis and Services Office, Centers for Disease Control and Prevention, pursuant to Section 10(d) Pub. L. 92-463. Agenda items are subject to change as priorities dictate.

For Further Information Contact: Price Connor, Ph.D., NIOSH Health Scientist, 1600 Clifton Road, NE., Mailstop E-20, Atlanta, Georgia 30333, telephone 404.498.2511, fax 404.498.2571.

The Director, Management Analysis and Services Office, has been delegated the authority to sign Federal Register notices pertaining to announcements of meetings and other committee management activities for both CDC and the Agency for Toxic Substances and Disease Registry.

Elaine L. Baker,
Acting Director, Management Analysis and Services Office, Centers for Disease Control and Prevention.

[FR Doc. E7-1083 Filed 1-24-07; 8:45 am]

BILLING CODE 4163-18-P